ENVIRONMENTAL PROTECTION AGENCY

[EPA-HQ-OAR-2023-0115; FRL-11392-01-OMS]

Information Collection Request Submitted to OMB for Review and Approval; Comment Request; NSPS for Nitric Acid Plants (Renewal)

AGENCY: Environmental Protection Agency (EPA).

ACTION: Notice.

SUMMARY: The Environmental Protection Agency (EPA) has submitted an information collection request (ICR), NSPS for Nitric Acid Plants (EPA ICR Number 1056.14, OMB Control Number 2060-0019), to the Office of Management and Budget (OMB) for review and approval in accordance with the Paperwork Reduction Act. This is a proposed extension of the ICR, which is currently approved through January 31, 2024. Public comments were previously requested via the Federal Register on May 18, 2023 during a 60-day comment period. This notice allows for an additional 30 days for public comments.

DATES: Comments may be submitted on or before October 10, 2023.

ADDRESSES: Submit your comments, referencing Docket ID Number EPA-HQ-OAR-2023-0115, to: (1) EPA online using www.regulations.gov/ (our preferred method), or by email to a-and-r-docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information within 30 days of publication of this notice to www.reginfo.gov/public/do/PRAMain. Find this particular information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through January 31, 2024. An agency may neither conduct nor sponsor, and a person is not required to respond to, a collection of information unless it displays a currently-valid OMB control number.

Public comments were previously requested via the Federal Register on January 31, 2023, during a 60-day comment period (87 FR 43843). This notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Nitric Acid Plants (40 CFR part 60, subpart G) were proposed on August 17, 1971; promulgated on June 14, 1974; and amended on August 14, 2012. The NSPS for Nitric Acid Plants (40 CFR part 60, subpart Ga) were proposed on October 14, 2011; promulgated on August 14, 2012; and were amended on May 6, 2014 in order to correct a minor error. Subpart G applies to nitric acid production units, producing weak (30 to 70 percent) nitric acid, which commenced construction, modification or reconstruction either on or after August 17, 1971, and prior to October 14, 2011. Subpart G limits the emissions of nitrogen oxides, expressed as nitrogen dioxide (NO2), to 1.5 kilograms per metric ton of acid produced (3.0 lb. per ton), and limits opacity to 10 percent. Subpart Ga applies to nitric acid production units, producing weak (30 to 70 percent) nitric acid, for which construction, reconstruction, or modification commenced after October 14, 2011, and limits nitrogen oxides (expressed as NO2) to 0.50 lb per ton of 100 percent nitric acid produced. This information is being collected to assure compliance with 40 CFR part 60, subparts G and Ga.

Form Numbers: None.

Respondents/affected entities: Nitric acid plants.

Respondent's obligation to respond: Mandatory (40 CFR part 60, subparts G and Ga).

Estimated number of respondents: 35 (total).

Frequency of response: Initially, occasionally, and semiannually.

Total estimated burden: 2,840 hours (per year). Burden is defined at 5 CFR 1320.3(b).

Total estimated cost: $4,690,000 (per year), which includes $4,330,000 in annualized capital/startup and/or operation & maintenance costs.

Changes in the Estimates: The increase in burden from the most-recently approved ICR is due to an adjustment(s). The adjustment increase in burden from the most-recently approved ICR is not due to any program changes, but due to an increase in the number of new sources. Capital/startup and operation and maintenance costs have also increased due to the increase in the number of new or modified sources and an adjustment to update costs to 2022 $ using the CEPCI Equipment Cost Index.

Courtney Kerwin,
Director, Regulatory Support Division.

[FR Doc. 2023-19275 Filed 9-6-23; 8:45 am]

BILLING CODE 6560-50-P